RAILROAD RETIREMENT BOARD

Sunshine Act Meetings

TIME AND DATE: 8:00 a.m., October 17, 2019.

PLACE: 8th Floor Board Conference Room, 844 North Rush Street, Chicago, Illinois 60611.

STATUS: This meeting will be open to the public.

MATTERS TO BE CONSIDERED:

(1) Consideration of the Management Member's proposal relating to the Chief Medical Officer position

(2) Update from the Chief Actuary on Wisconsin Central

(3) Procedural issues related to hiring and Board approval/notification

CONTACT PERSON FOR MORE INFORMATION: Stephanie Hillyard, Secretary to the Board, Phone No. 312-751-4920.

Authority: 5 U.S.C. 552b.

Dated: October 4, 2019.
Stephanie Hillyard,
Secretary to the Board.

[FR Doc. 2019-22113 Filed 10-4-19; 4:15 pm]

BILLING CODE 7905-01-P